DEPARTMENT OF THE INTERIOR

Bureau of Land Management

[15X L1109AF LLUT030000 L16100000.PH0000 24 1A]

Call for Nominations for Grand Staircase-Escalante National Monument Advisory Committee

AGENCY: Bureau of Land Management, Interior.

ACTION: Notice.

SUMMARY: The purpose of this notice is to request public nominations for five members of the Grand Staircase-Escalante National Monument Advisory Committee (GSENM-MAC). The GSENM-MAC provides advice and recommendations to GSENM on science issues and the achievement of GSENM Management Plan objectives. The GSENM will receive public nominations for 30 days from the date this notice is published.

DATES: A completed nomination form and accompanying nomination/recommendation letters must be received at the address listed below no later than May 6, 2015.

ADDRESSES: Completed applications should be sent to the Bureau of Land Management, Grand Staircase-Escalante National Monument Headquarters Office, 669 South Highway 89A, Kanab, Utah 84741.

FOR FURTHER INFORMATION CONTACT: Larry Crutchfield, Public Affairs Officer, GSENM Headquarters Office, 669 South Highway 89A, Kanab, Utah 84741; phone 435-644-1209, or email: lcrutchf@blm.gov. Persons who use a telecommunications device for the deaf (TDD) may call the Federal Information Relay Service (FIRS) at 1-800-877-8339 to leave a message or question for the above individual. The FIRS is available 24 hours a day, seven days a week. Replies are provided during normal business hours.

SUPPLEMENTARY INFORMATION: The Secretary of the Interior established the GSENM-MAC pursuant to section 309 of the Federal Land Policy and Management Act (FLPMA) of 1976 (43 U.S.C. 1739) and in conformity with the Federal Advisory Committee Act (FACA) of 1972 (5 U.S.C. Appendix 2). The 15 appointed members of the GSENM-MAC perform several primary tasks: (1) Review evaluation reports produced by the Management Science Team and make recommendations on protocols and projects to meet overall objectives; (2) Review appropriate research proposals and make recommendations on project necessity and validity; (3) Make recommendations regarding the allocation of research funds through review of research and project proposals, as well as the research needs identified through the evaluation process above; and (4) Be available to provide support for issues such as protocols for specific projects.

The Secretary appoints persons to the GSENM-MAC who are representatives of the various major citizen interests pertaining to land-use planning and management of the lands under BLM management in the GSENM.

Each GSENM-MAC member will be a person who, as a result of training and experience, has knowledge or special expertise which qualifies him or her to provide advice from among the categories of interest listed below. As appropriate, certain committee members may be appointed as Special Government Employees. Special Government Employees serve on the committee without compensation, and are subject to financial disclosure requirements in the Ethics in Government Act and 5 CFR part 2634.

This notice, published pursuant to 43 CFR 1784.4-1 and in accordance with the Approved Management Plan for Grand Staircase-Escalante National Monument (February 2000), solicits public nominations to fill five positions on the committee. Any individual or organization may nominate one or more persons to serve on the GSENM-MAC. Individuals may nominate themselves for GSENM-MAC membership.

Nomination forms may be obtained from the GSENM Headquarters Office, address listed above. Nominations packages must include a letter of nomination, a completed nomination form, letters of reference from the represented interest groups or organizations associated with the interests represented by the candidate, and any other information that speaks to the candidate's qualifications.

The five open member positions are: One member, a Livestock Grazing permittee operating within the Monument to represent livestock operators on the Monument; one member, a State representative to represent the State of Utah's interest in the Monument; one member, a Tribal representative to represent Tribal interests in the Monument; one member will be appointed as a special government employee with expertise in Paleontology; and, one member will be appointed as a special government employee with expertise in Systems Ecology.

The specific category the nominee would represent should be identified in the letter of nomination and in the nomination form. The BLM-Utah State Director and Monument Manager will review the nomination forms and letters of reference. The State Director shall confer with the Governor of the State of Utah on potential nominations, then she will forward recommended nominations to the Secretary of the Interior who has responsibility for making the appointments.

Members will serve without monetary compensation, but will be reimbursed for travel and per diem expenses at current U.S. General Services Administration rates. The Committee will meet at least twice a year. Additional meetings may be called by the Designated Federal Officer.

Authority: 43 CFR 1784.4-1.

Jenna Whitlock,
Acting State Director.

[FR Doc. 2015-07805 Filed 4-3-15; 8:45 am]

BILLING CODE 4310-DQ-P